DEPARTMENT OF ENERGY

Federal Energy Regulatory Commission

Combined Notice of Filings #1

Take notice that the Commission received the following electric corporate filings:

Docket Numbers: EC20-55-000.

Applicants: Hummel Generation, LLC, Panda Hummel Station LLC.

Description: Application for Authorization Under Section 203 of the Federal Power Act of Hummel Generation, LLC, et al.

Filed Date: 4/23/20.

Accession Number: 20200423-5199.

Comments Due: 5 p.m. ET 5/14/20.

Docket Numbers: EC20-56-000.

Applicants: Imperial Valley Solar, LLC.

Description: Application for Authorization Under Section 203 of the Federal Power Act, et al. of Imperial Valley Solar, LLC.

Filed Date: 4/24/20.

Accession Number: 20200424-5065.

Comments Due: 5 p.m. ET 5/15/20.

Take notice that the Commission received the following exempt wholesale generator filings:

Docket Numbers: EG20-137-000.

Applicants: AES ES Alamitos, LLC.

Description: Self-Certification of EWG Status of AES ES Alamitos, LLC.

Filed Date: 4/24/20.

Accession Number: 20200424-5032.

Comments Due: 5 p.m. ET 5/15/20.

Docket Numbers: EG20-138-000.

Applicants: Highlander Solar Energy Station 1, LLC.

Description: Highlander Solar Energy Station 1, LLC submits a Notice of Self-Certification of Exempt Wholesale Generator Status.

Filed Date: 4/24/20.

Accession Number: 20200424-0006.

Comments Due: 5 p.m. ET 5/15/20.

Docket Numbers: EG20-139-000.

Applicants: Little Bear Master Tenant, LLC.

Description: Notice of Self-Certification of Exempt Wholesale Generator Status of Little Bear Master Tenant, LLC.

Filed Date: 4/24/20.

Accession Number: 20200424-5093.

Comments Due: 5 p.m. ET 5/15/20

Take notice that the Commission received the following electric rate filings:

Docket Numbers: ER10-1819-025; ER10-1820-028; ER10-1874-011; ER19-9-005.

Applicants: Northern States Power Company, a Minnesota corporation, Northern States Power Company, a Wisconsin corporation, Mankato Energy Center, LLC, Mankato Energy Center II, LLC.

Description: Notice of Change in Status of Northern States Power Company, a Minnesota corporation, et al.

Filed Date: 4/24/20.

Accession Number: 20200424-5230.

Comments Due: 5 p.m. ET 5/15/20.

Docket Numbers: ER20-1107-001.

Applicants: Midcontinent Independent System Operator, Inc., ITC Midwest LLC.

Description: Tariff Amendment: 2020-04-23_SA 2945 ITC-IPL Sub 1st Rev FSA (J233 J514) to be effective 2/28/2020.

Filed Date: 4/23/20.

Accession Number: 20200423-5154.

Comments Due: 5 p.m. ET 5/14/20.

Docket Numbers: ER20-1407-000.

Applicants: Massachusetts Electric Company.

Description: Notice of Cancellation of Interconnection Agreement (Rate Schedule No. 62) of Massachusetts Electric Company.

Filed Date: 3/27/20.

Accession Number: 20200327-5116.

Comments Due: 5 p.m. ET 5/4/20.

Docket Numbers: ER20-1477-001.

Applicants: 3PR Trading, Inc.

Description: Tariff Amendment: Amendment to 1 to be effective 4/2/2020.

Filed Date: 4/24/20.

Accession Number: 20200424-5002.

Comments Due: 5 p.m. ET 5/15/20.

Docket Numbers: ER20-1537-000; ER20-1538-000.

Applicants: RE Mustang Two Barbaro LLC, RE Mustang Two Whirlaway LLC.

Description: Joint Supplement to April 14, 2020 RE Mustang Two Barbaro LLC and RE Mustang Two Whirlaway, LLC tariff filings.

Filed Date: 4/23/20.

Accession Number: 20200423-5195.

Comments Due: 5 p.m. ET 5/14/20.

Docket Numbers: ER20-1562-000.

Applicants: Midlands Solar LLC.

Description: Supplement to April 14, 2020 Midlands Solar LLC tariff filing.

Filed Date: 4/21/20.

Accession Number: 20200421-5268.

Comments Due: 5 p.m. ET 5/5/20.

Docket Numbers: ER20-1563-000.

Applicants: Midlands Lessee LLC.

Description: Supplement to April 14, 2020 Midlands Lessee LLC tariff filing.

Filed Date: 4/21/20.

Accession Number: 20200421-5269.

Comments Due: 5 p.m. ET 5/5/20.

Docket Numbers: ER20-1642-000.

Applicants: Mariposa Energy, LLC.

Description: Request for Waiver of Mariposa Energy, LLC.

Filed Date: 4/23/20.

Accession Number: 20200423-5146.

Comments Due: 5 p.m. ET 5/4/20.

Docket Numbers: ER20-1644-000.

Applicants: ENMAX Energy Marketing, Inc.

Description: § 205(d) Rate Filing: Change in Category Seller Status to be effective 4/24/2020.

Filed Date: 4/23/20.

Accession Number: 20200423-5153.

Comments Due: 5 p.m. ET 5/14/20.

Docket Numbers: ER20-1645-000.

Applicants: PJM Interconnection, L.L.C.

Description: Tariff Cancellation: Notice of Cancellation of WMPA SA No. 4260, Queue No. AB1-022 to be effective 3/30/2020.

Filed Date: 4/23/20.

Accession Number: 20200423-5173.

Comments Due: 5 p.m. ET 5/14/20.

Docket Numbers: ER20-1646-000.

Applicants: Midcontinent Independent System Operator, Inc.

Description: § 205(d) Rate Filing: 2020-04-24_SA 3480 ATC-Darien Solar Energy Center GIA (J850) to be effective 4/10/2020.

Filed Date: 4/24/20.

Accession Number: 20200424-5027.

Comments Due: 5 p.m. ET 5/15/20.

Docket Numbers: ER20-1647-000.

Applicants: Unitil Power Corp.

Description: Unitil Power Corp submits Statement of all billing transactions under the Amended Unitil System Agreement for the period January 1, 2019 to December 31, 2019.

Filed Date: 4/24/20.

Accession Number: 20200424-5054.

Comments Due: 5 p.m. ET 5/15/20.

Docket Numbers: ER20-1648-000.

Applicants: Inter-Power/AhlCon Partners, L.P.

Description: Baseline eTariff Filing: Application For Market Based Rate Authority to be effective 5/15/2020.

Filed Date: 4/24/20.

Accession Number: 20200424-5084.

Comments Due: 5 p.m. ET 5/15/20.

Docket Numbers: ER20-1649-000.

Applicants: PJM Interconnection, L.L.C.

Description: § 205(d) Rate Filing: Assignment of Service Agreement Nos. 3147 & 3318; Queue Nos. W4-103 & X3-075 to be effective 6/4/2014.

Filed Date: 4/24/20.

Accession Number: 20200424-5088.

Comments Due: 5 p.m. ET 5/15/20.

Docket Numbers: ER20-1650-000.

Applicants: Little Bear Master Tenant, LLC.

Description: Baseline eTariff Filing: MBR Application to be effective 6/24/2020.

Filed Date: 4/24/20.

Accession Number: 20200424-5127.

Comments Due: 5 p.m. ET 5/15/20.

Docket Numbers: ER20-1651-000.

Applicants: Panda Hummel Station LLC, Hummel Generation, LLC.

Description: Joint Request for Waiver, et al. of Panda Hummel Station LLC, et al.

Filed Date: 4/23/20.

Accession Number: 20200423-5207.

Comments Due: 5 p.m. ET 5/14/20.

Docket Numbers: ER20-1652-000.

Applicants: Cedar Creek Wind Energy, LLC.

Description: Initial rate filing: Filing of Certificates of Concurrence to be effective 3/19/2020.

Filed Date: 4/24/20.

Accession Number: 20200424-5139.

Comments Due: 5 p.m. ET 5/15/20.

Docket Numbers: ER20-1653-000.

Applicants: Kingfisher Wind, LLC.

Description: § 205(d) Rate Filing: Normal MBR update 2020 to be effective 4/25/2020.

Filed Date: 4/24/20.

Accession Number: 20200424-5174.

Comments Due: 5 p.m. ET 5/15/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 24, 2020.
Nathaniel J. Davis, Sr.,
Deputy Secretary.

[FR Doc. 2020-09192 Filed 4-29-20; 8:45 am]

BILLING CODE 6717-01-P